DEPARTMENT OF HOMELAND SECURITY

Coast Guard

33 CFR Part 165

[Docket No. USCG-2010-0063]

Safety Zones; Annual Firework Displays Within the Captain of the Port, Puget Sound Area of Responsibility

AGENCY: Coast Guard, DHS.

ACTION: Notice of enforcement of regulation.

SUMMARY: The Coast Guard will enforce the safety zones for annual firework displays in the Captain of the Port, Puget Sound area of responsibility during the dates and times noted below. This action is necessary to prevent injury and to protect life and property of the maritime public from the hazards associated with the firework displays. During the enforcement periods, entry into, transit through, mooring, or anchoring within these zones is prohibited unless authorized by the Captain of the Port, Puget Sound or his Designated Representative.

DATES: The regulations in 33 CFR 165.1332 for the events described below will be enforced from 5 p.m. on July 4, 2012 to 1 a.m. on July 5, 2012.

FOR FURTHER INFORMATION CONTACT: If you have questions on this notice, call or email ENS Anthony P. LaBoy, Sector Puget Sound Waterways Management, Coast Guard; telephone 206-217-6323, SectorPugetSoundWWM@uscg.mil.

SUPPLEMENTARY INFORMATION: The Coast Guard will enforce the safety zones established for Annual Fireworks Displays within the Captain of the Port, Puget Sound Area of Responsibility in 33 CFR 165.1332 during the dates and times noted below.

The following safety zones will be enforced from 5 p.m. on July 4, 2012 through 1 a.m. on July 5, 2012.

Event name | Location | Latitude | Longitude | Radius (yds)
Blast Over Bellingham | Bellingham Bay | 48°44.933′ N | 122°29.667′ W | 300
Roche Harbor Fireworks | Roche Harbor | 48°36.700′ N | 123°09.500′ W | 150
Fireworks Display | Henderson Bay | 47°21.800′ N | 122°38.367′ W | 250

The special requirements listed in 33 CFR 165.1332(b), which can also be found in the Federal Register (75 FR 33700) published on June 15, 2010, apply to the activation and enforcement of these safety zones.

All vessel operators who desire to enter any of the safety zones must obtain permission from the Captain of the Port or his Designated Representative by contacting either the on-scene patrol craft on VHF Ch 13 or Ch 16 or the Coast Guard Sector Puget Sound Joint Harbor Operations Center (JHOC) via telephone at (206) 217-6002.

The Coast Guard may be assisted by other Federal, State, or local law enforcement agencies in enforcing this regulation.

This notice is issued under authority of 33 CFR part 165 and 5 U.S.C. 552(a). In addition to this notice, the Coast Guard will provide the maritime community with extensive advance notification of the safety zones via the Local Notice to Mariners and marine information broadcasts on the days of the events.

Dated: June 14, 2012.
S.J. Ferguson,
Captain, U.S. Coast Guard, Captain of the Port, Puget Sound.

[FR Doc. 2012-15639 Filed 6-26-12; 8:45 am]

BILLING CODE 9110-04-P